DEPARTMENT OF ENERGY

Proposed Emergency Information Collection

AGENCY: U.S. Department of Energy.

ACTION: Notice of request for comments.

SUMMARY: The Department of Energy (DOE) Grid Deployment Office (GDO) invites public comment on a proposed emergency collection of information that DOE is developing for submission to the Office of Management and Budget (OMB) pursuant to the Paperwork Reduction Act of 1995.

DATES: Comments regarding this proposed information collection must be received on or before October 10, 2023. If you anticipate that you will be submitting comments but find it difficult to do so within the period allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Aisha Miranda Rivera, aisha.miranda-rivera@hq.doe.gov, (240) 429-5213.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.:1910-NEW;

(2) Information Collection Request Title: Puerto Rico Energy Resiliency Fund (PR-ERF), Solar Ambassador Household Intake Form;

(3) Type of Request: Emergency Clearance;

(4) Purpose: To authorize the use of the `Solar Ambassador Household Intake Form' to collect homeowner data necessary to qualify households as eligible to receive rooftop solar and battery storage installations as prescribed under the GDO Puerto Rico Energy Resiliency Fund (PR-ERF). Eligibility is limited to very low-income, single-family households (1) where an individual with an energy dependent disability resides; or (2) located in a Last Mile Community.¹ This will be a one-time collection occurring over the course of 6-months.

¹ A census block that (a) has a high percent of very low-income households, and (b) experiences frequent and prolonged power outages. Solar Ambassador organizations will perform outreach activities in Last Mile Communities to identify qualifying households.

Pursuant to the OMB procedures established in 5 CFR part 1320, Controlling Paperwork Burdens on the Public, the DOE GDO, is requesting that the proposed information of collection, Solar Ambassador Household Intake Form, be processed as an Emergency Clearance Information Collection Request (ICR) as referenced in 5 CFR 1320.13, Emergency Processing. DOE has determined that the information must be collected prior to the time periods established under Part 1320 of the regulation, and that this information is essential to GDO's implementation of the PR-ERF.

The PR-ERF, a $1 billion initiative authorized by Congress under the Consolidated Appropriations Act of 2023, Public Law 117-328, will incentivize the installation of rooftop solar and battery storage technologies for eligible households.

According to information collected from LUMA, the grid operator of Puerto Rico, there have been 54 load shedding events (power outages caused by insufficient ability to generate electricity) in Puerto Rico during the last two and a half months. These power outages occur when customer demand for electricity exceeds the capacity of Puerto Rico's electric generation fleet. This is expected to continue as power plant maintenance schedules and associated high-priority repairs from Hurricane Fiona in September 2022 have been postponed due to the need to use all existing power capacity.

These daily outages in addition to recent record-breaking temperatures on the island (in the midst of hurricane season) are a combination of long-term damaging effects that affect the citizens of Puerto Rico, representing a public harm, specifically for individuals with an energy dependent disability or residents of areas that suffer frequent and prolonged power outages. By initiating installations of solar PV and battery storage systems before the 2024 hurricane season, DOE plans to address the harm and risk represented by the fragility of the islands' power system. Failure to collect the information immediately would cause delays in providing assistance that is necessary to reestablish the reliability of electric service to these vulnerable residents. GDO developed an in-person application process recognizing that the demographic served will lack access to broadband and have limited mobility but that it is essential to program operation to verify beneficiary eligibility for participation in the program. This process is currently envisioned to be facilitated by competitively selected Community Based Organizations (CBOs) but other entities such as electric cooperatives and solar installers may also contribute depending on program execution needs.

(5) Annual Estimated Number of Respondents: 40,200;

(6) Annual Estimated Number of Total Responses: 80,000;

(7) Annual Estimated Number of Burden Hours: 56,800;

(8) Annual Estimated Reporting and Recordkeeping Cost Burden: $845,520.

Statutory Authority: The Consolidated Appropriations Act of 2023, Public Law 117-328, authorized $1,000,000,000 to the Secretary of Energy to carry out activities to improve the resilience of the Puerto Rican electric grid by installation of renewable energy, energy storage, and other grid technologies, with a focus on the island's most vulnerable and disadvantaged households and communities. The need for a diligent eligibility verification process is necessary to demonstrate to Congress, Senior Leadership, and the public that these specific communities have been served.

Signing Authority

This document of the Department of Energy was signed on August 18, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 1, 2023.
Treena V. Garrett,
Federal Register Liaison Officer, U.S. Department of Energy.

[FR Doc. 2023-19347 Filed 9-6-23; 8:45 am]

BILLING CODE 6450-01-P